DEPARTMENT OF HOUSING AND URBAN DEVELOPMENT

[Docket No. 5263-N-01]

Notice of Certain Operating Cost Adjustment Factors for 2009

AGENCY: Office of the Assistant Secretary for Housing—Federal Housing Commissioner, HUD.

ACTION: Notice.

SUMMARY: This notice establishes, for 2009, operating cost adjustment factors (OCAFs). OCAFs are annual factors used to adjust Section 8 rents renewed under section 524 of the Multifamily Assisted Housing Reform and Affordability Act of 1997 (MAHRA).

DATES: Effective Date: February 11, 2009.

FOR FURTHER INFORMATION CONTACT: Judith May, Director, Office of Evaluation, Office of Housing, Department of Housing and Urban Development, 451 7th Street, SW., Washington, DC 20410; telephone number 202-402-3239 (this is not a toll-free number). Hearing- or speech-impaired individuals may access this number through TTY by calling the toll-free Federal Information Relay Service at 800-877-8339.

SUPPLEMENTARY INFORMATION:

I. OCAFs

Section 514(e)(2) of MAHRA requires HUD to establish guidelines for rent adjustments based on an OCAF. The statute requiring HUD to establish OCAFs for LIHPRHA projects and projects with contract renewals or adjustments under section 524 of MAHRA is similar in wording and intent. HUD has therefore developed a single factor to be applied uniformly to all projects utilizing OCAFs as the method by which renewal rents are established or adjusted.

LIHPRHA projects are low-income housing projects insured by the Federal Housing Administration (FHA). LIHPRHA projects are primarily low-income housing projects insured under section 221(d)(3) below-market interest rate (BMR) and section 236 of the National Housing Act, respectively. Both categories of projects have low-income use restrictions that have been extended beyond the 20-year period specified in the original documents, and both categories of projects also receive assistance under section 8 of the U.S. Housing Act of 1937 to support the continued low-income use. The OCAF rent adjustments are designed to cover increases in project operating costs. Contract rents are adjusted by applying the OCAF to that portion of the rent attributable to operating expenses and making adjustments for increases or decreases in non-operating costs, such as debt service.

Additionally, MAHRA gives HUD broad discretion in setting OCAFs—referring, for example, in sections 524(a)(4)(C)(i), 524(b)(1)(A), 524(b)(3)(A) and 524(c)(1) simply to “an operating cost adjustment factor established by the Secretary.” The sole limitation to this grant of authority is a specific requirement in each of the foregoing provisions that application of an OCAF “shall not result in a negative adjustment.” OCAFs are to be applied uniformly to all projects utilizing OCAFs as the method by which rents are established or adjusted. OCAFs are applied to project contract rent less debt service.

HUD calculates the average, per unit, change in operating costs (excluding debt service and bad debt expense), by state, for all projects submitting consecutive valid financial statement reports with fiscal year end dates between July 31, 2006 and July 31, 2008. The projects comprise all multifamily properties excluding nursing homes and hospitals. Furthermore, data for projects with unusually high or low expenses due to unusual circumstances were deleted from the analysis. These changes in actual operating costs experienced by properties within HUD's portfolio have become the FY 2009 OCAFs.

OCAFs continue to be published at the state level. States are the lowest level of geographical aggregation at which there are enough projects to permit statistically reliable analysis. Additionally, no data were available for the Western Pacific Islands. Data for Hawaii was therefore used to generate OCAFs for these areas.

II. MAHRA and LIHPRHA OCAF Procedures

MAHRA, as amended, created the Mark-to-Market Program to reduce the cost of federal housing assistance, enhance HUD's administration of such assistance, and ensure the continued affordability of units in certain multifamily housing projects. Section 524 of MAHRA authorizes renewal of Section 8 project-based assistance contracts for projects without restructuring plans under the Mark-to-Market Program, including projects that are not eligible for a restructuring plan and those for which the owner does not request such a plan. Renewals must be at rents not exceeding comparable market rents except for certain projects. As an example, for Section 8 Moderate Rehabilitation projects, other than single room occupancy projects (SROs) under the McKinney-Vento Homeless Assistance Act (42 U.S.C. 11301 et seq.), that are eligible for renewal under section 524(b)(3) of MAHRA, the renewal rents are required to be set at the lesser of: (1) The existing rents under the expiring contract, as adjusted by the OCAF; (2) fair market rents (less any amounts allowed for tenant-purchased utilities); or (3) comparable market rents for the market area.

LIHPRHA (see, in particular, section 222(a)(2)(G)(i), 12 U.S.C. 4112(a)(2)(G) and the regulations at 24 CFR 248.145(a)(9)) requires that future rent adjustments for LIHPRHA projects be made by applying an annual factor to be determined by HUD to the portion of project rent attributable to operating expenses for the project and, where the owner is a priority purchaser, to the portion of project rent attributable to project oversight costs.

III. Findings and Certifications

Environmental Impact

This issuance sets forth rate determinations and related external administrative requirements and procedures that do not constitute a development decision affecting the physical condition of specific project areas or building sites. Accordingly, under 24 CFR 50.19(c)(6), this notice is categorically excluded from environmental review under the National Environmental Policy Act of 1969 (42 U.S.C. 4321).

Catalog of Federal Domestic Assistance Number

The Catalog of Federal Domestic Assistance Number for this program is 14.187.

Dated: October 28, 2008.
Brian D. Montgomery,
Assistant Secretary for Housing—Federal Housing Commissioner.

Appendix

Operating Cost Adjustment Factors for 2009

U.S. Average | 4.3%
Alabama | 3.0%
Alaska | 12.4
Arizona | 5.0
Arkansas | 3.7
California | 4.7
Colorado | 3.7
Connecticut | 5.7
Delaware | 2.0
District of Columbia | 5.7
Florida | 4.9
Georgia | 5.5
Hawaii | 7.9%
Idaho | 4.7%
Illinois | 3.9
Indiana | 6.1
Iowa | 3.5
Kansas | 6.1
Kentucky | 4.9
Louisiana | 5.7
Maine | 5.0
Maryland | 4.5
Massachusetts | 3.7
Michigan | 3.3
Minnesota | 5.5
Mississippi | 8.0
Missouri | 3.7
Montana | 4.3
Nebraska | 4.4
Nevada | 2.4
New Hampshire | 3.3
New Jersey | 2.7
New Mexico | 6.1
New York | 3.9
North Carolina | 2.8
North Dakota | 2.4
Ohio | 3.8
Oklahoma | 4.0
Oregon | 7.9
Pacific Islands | 7.9
Pennsylvania | 5.2
Puerto Rico | 2.9
Rhode Island | 5.0
South Carolina | 5.4
South Dakota | 5.2
Tennessee | 4.8
Texas | 3.4
Utah | 4.0
Vermont | 2.8
Virgin Islands | 0.0
Virginia | 3.4
Washington | 2.3
West Virginia | 2.6
Wisconsin | 3.9
Wyoming | 3.5

[FR Doc. E8-26655 Filed 11-7-08; 8:45 am]

BILLING CODE 4210-67-P